DEPARTMENT OF HEALTH AND HUMAN SERVICES

National Institutes of Health

National Cancer Institute; Amended Notice of Meeting

Notice is hereby given of a change in the meeting of the National Cancer Institute Special Emphasis Panel, April 30, 2001, 8 a.m. to May 1, 2001, 5 p.m., Ramada Inn Rockville, 1775 Rockville Pike, Rockville, MD 20852 which was published in the Federal Register on April 19, 2001, 66 FR 20151.

The meeting will be held on Thursday, May 24 and Friday, May 25, 2001. The meeting is closed to the public.

Dated: May 1, 2001.
LaVerne Y. Stringfield,
Director, Office of Federal Advisory Committee Policy.

[FR Doc. 01-11599 Filed 5-8-01; 8:45 am]

BILLING CODE 4140-01-M